DEPARTMENT OF DEFENSE

[DOD-2006-OS-0087]

Office of the Inspector General; Privacy Act of 1974; System of Records

AGENCY: Office of the Inspector General, DoD.

ACTION: Notice to delete systems of records.

SUMMARY: The Office of the Inspector General (OIG) is deleting a system of records notice from its existing inventory of records systems subject to the Privacy Act of 1974, (5 U.S.C. 552a), as amended.

DATES: This proposed action will be effective without further notice on June 16, 2006 unless comments are received which result in a contrary determination.

ADDRESSES: Send comments to Chief, FOIA/PA Office, Inspector General, Department of Defense, 400 Army Navy Drive, Room 201, Arlington, VA 22202-4704.

FOR FURTHER INFORMATION CONTACT: Mr. Darryl R. Aaron at (703) 604-9785.

SUPPLEMENTARY INFORMATION: The Office of the Inspector General (OIG) systems of records notices subject to the privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: May 10, 2006.
L.M. Bynum,
OSD Federal Register Liaison Officer, Department of Defense.

CIG-13

System name:

Travel and Transportation System (June 16, 2003, 68 FR 35636).

Reason:

The records are covered by GSA/GOVT-4 (Contracted Travel Service Program), a government wide system notice.

[FR Doc. 06-4600 Filed 5-16-06; 8:45 am]

BILLING CODE 5001-06-M